DEPARTMENT OF TRANSPORTATION

Federal Aviation Administration

14 CFR Part 23

[Docket No. FAA-2015-1621]

Revision of Airworthiness Standards for Normal, Utility, Acrobatic, and Commuter Category Airplanes; Notice of Public Meeting

AGENCY: Federal Aviation Administration (FAA), DOT.

ACTION: Notice of public meeting.

SUMMARY: The FAA announces public meeting on its proposal to revise Part 23 Airworthiness Standards for Normal, Utility, Acrobatic, and Commuter Category Airplanes. The purpose of the public meeting is for the FAA to explain and answer questions concerning the language related to its Notice of Proposed Rulemaking (NPRM) (81 FR 13452, March 14, 2016).

DATES: The public meetings will be held on the following dates: (Note that the meetings may be adjourned early if the agenda is completed in less time than is scheduled for the meetings.)

• May 3, 2016 from 8:00 a.m. until no later than 5:00 p.m.

• May 4, 2016 from 8:00 a.m. until no later than 5:00 p.m.

The NPRM written comment period will close on May 13, 2016.

ADDRESSES: The May 3 and 4, 2016, public meeting will be held at the Georgia International Convention Center, 2000 Convention Center Concourse, College Park, GA 30294.

Written comments (identified by docket number FAA-2015-1621) may be submitted using any of the following methods:

• Federal eRulemaking Portal: Go to http://www.regulations.gov and follow the instructions for sending comments electronically.

• Mail: Send comments to Docket Operations, M-30, U.S. Department of Transportation, 1200 New Jersey Avenue SE., West Building Ground Floor, Room W12-140, Washington, DC 20590.

• Fax: Fax comments to Docket Operations at 202-493-2251.

• Hand Delivery: Docket Operations in Room W12-140 of the West Building Ground Floor at 1200 New Jersey Avenue SE., Washington, DC, between 9 a.m. and 5 p.m., Monday through Friday, except Federal holidays.

Written comments to the docket will receive the same consideration as statements made at the public meeting. For more information on the rulemaking process, see the SUPPLEMENTARY INFORMATION section of this document.

Privacy: The FAA will post all comments it receives, without change, to http://www.regulations.gov, including any personal information provided by the commenter. Using the search function of the FAA's docket Web site, anyone can find and read the comments received into any of the agency's dockets, including the name of the individual sending the comment (or signing the comment for an association, business, labor union, etc.). DOT's complete Privacy Act Statement may be reviewed in the Federal Register published on April 11, 2000 (65 FR 19476) or at http://DocketsInfo.dot.gov.

Docket: Background documents or comments received may be read at http://www.regulations.gov at any time or in Docket Operations in Room W12-140 of the West Building Ground Floor at 1200 New Jersey Avenue SE., Washington, DC, between 9 a.m. and 5 p.m., Monday through Friday, except Federal holidays.

FOR FURTHER INFORMATION CONTACT: Mr. Lowell Foster, Small Airplane Directorate, ACE-111, Federal Aviation Administration, 901 Locust Street, Kansas City, MO 64106; telephone (816) 329-4125, facsimile (816) 329-4090.

SUPPLEMENTARY INFORMATION:

Background

On March 14, 2016, the FAA published a Notice of Proposed Rulemaking (NPRM) titled “Revision of Airworthiness Standards for Normal, Utility, Acrobatic, and Commuter Category Airplanes”. The FAA proposes in this NPRM to amend its airworthiness standards for normal, utility, acrobatic, and commuter category airplanes by removing current prescriptive design requirements and replacing them with performance-based airworthiness standards. The proposed standards would also replace the current weight and propulsion divisions in part 23 with performance- and risk-based divisions for airplanes with a maximum seating capacity of 19 passengers or less and a maximum takeoff weight of 19,000 pounds or less. The proposed airworthiness standards are based on, and would maintain, the level of safety of the current part 23. Finally, the FAA proposes to adopt additional airworthiness standards to address certification for flight in icing conditions, enhanced stall characteristics, and minimum control speed to prevent departure from controlled flight for multiengine airplanes. The NPRM addresses the Congressional mandate set forth in the Small Airplane Revitalization Act of 2013 ¹ (Pub. L. 113-53, 49 U.S.C. 44704 note).

¹ https://www.congress.gov/bill/113th-congress/house-bill/1848/text.

Purpose of the Public Meetings

The purpose of the public meetings is for the FAA to discuss the NPRM, hear the public's questions, address any confusion, and obtain information relevant to the final rule under consideration. The FAA will consider comments made at the public meetings before making a final decision on issuance of the final rule.

Public Meeting Procedures

A panel of representatives from the FAA will be present. An FAA representative will facilitate the meetings in accordance with the following procedures:

(1) There will be no admission fees or other charges to attend or to participate in the public meetings. The meetings will be open to all persons, subject to availability of space in the meeting room. The FAA will make every effort to accommodate all persons wishing to attend. The FAA asks that participants sign in between 7:00-8:00 a.m. on the day of the meeting being attended. The meetings may adjourn early if the agenda items are completed in less time than is scheduled for the meetings.

(2) The meetings will be recorded by a court reporter. A transcript of the meetings and all material accepted by the panel during the meetings will be included in the public docket, unless protected from disclosure. Each person interested in purchasing a copy of a transcript should contact the court reporter directly. Information on how to purchase a transcript will be available at the meetings.

Issued in Washington, DC, on April 1, 2016.
James M. Crotty,
Acting Director, Office of Rulemaking.

[FR Doc. 2016-07943 Filed 4-6-16; 8:45 am]

BILLING CODE 4910-13-P